INTERNATIONAL TRADE COMMISSION

[Investigation Nos. 731-TA-986-987 (Second Review)]

Ferrovanadium From China and South Africa; Determinations

On the basis of the record ¹ developed in the subject five-year reviews, the United States International Trade Commission (“Commission”) determines, pursuant to section 751(c) of the Tariff Act of 1930 (19 U.S.C. 1675(c)), that revocation of the antidumping duty orders on ferrovanadium from China and South Africa would be likely to lead to continuation or recurrence of material injury to an industry in the United States within a reasonably foreseeable time.

¹ The record is defined in sec. 207.2(f) of the Commission's Rules of Practice and Procedure (19 CFR 207.2(f)).

Background

The Commission instituted these reviews on November 1, 2013 (78 FR 65706) and determined on February 4, 2014 that it would conduct full reviews (79 FR 9000, February 14, 2014). Notice of the scheduling of the Commission's reviews and of a public hearing to be held in connection therewith was given by posting copies of the notice in the Office of the Secretary, U.S. International Trade Commission, Washington, DC, and by publishing the notice in the Federal Register on July 10, 2014 (79 FR 39411). The hearing was held in Washington, DC, on November 20, 2014, and all persons who requested the opportunity were permitted to appear in person or by counsel.

The Commission completed and filed its determinations in these reviews on January 28, 2015. The views of the Commission are contained in USITC Publication 4517 (January 2015), entitled Ferrovanadium from China and South Africa: Investigation Nos. 731-TA-986-987 (Second Review).

By order of the Commission.
Issued: January 28, 2015.
Lisa R. Barton,
Secretary to the Commission.

[FR Doc. 2015-02004 Filed 2-2-15; 8:45 am]

BILLING CODE 7020-02-P